DEPARTMENT OF ENERGY

Federal Energy Regulatory Commission

[Docket Nos. RP02-510-001 and RP03-259-002]

Questar Pipeline Company; Notice of Compliance Filing

July 22, 2003.

Take notice that on July 17, 2003, Questar Pipeline Company (Questar), tendered for filing to its FERC Gas Tariff, First Revised Volume No. 1, the following tariff sheets to be effective as indicated on each tariff sheet:

Substitute Fourteenth Revised Sheet No. 6, Effective October 1, 2002.

Substitute Fifteenth Revised Sheet No. 6, Effective April 7, 2003.

Eighth Revised Sheet No. 67, Effective April 7, 2003.

Substitute First Revised Sheet No. 67A, Effective April 7, 2003.

Questar states that this filing corrects language on several tariff sheets to reflect revisions resulting from the Commission's rejection and Questar's withdrawal of tariff filings in Docket Nos. RP02-210 and RP03-250, respectively.

Questar states that copies of this filing were served upon Questar's customers, the Public Service Commission of Utah and the Public Service Commission of Wyoming.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 29, 2003.

Magalie R. Salas,
Secretary.

[FR Doc. 03-19234 Filed 7-28-03; 8:45 am]

BILLING CODE 6717-01-P